DEPARTMENT OF THE INTERIOR

National Park Service

[NPS-WASO-NRNHL-DTS#-31517; PPWOCRADI0, PCU00RP14.R50000]

National Register of Historic Places; Notification of Pending Nominations and Related Actions

AGENCY: National Park Service, Interior.

ACTION: Notice.

SUMMARY: The National Park Service is soliciting electronic comments on the significance of properties nominated before February 13, 2021, for listing or related actions in the National Register of Historic Places.

DATES: Comments should be submitted electronically by March 9, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before February 13, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Gila County

Hunt Farmstead Historic District, 4223 North Pine Creek Rd., Pine, SG100006316

CALIFORNIA

San Mateo County

Redwood City Woman's Club, 149 Clinton St., Redwood City, SG100006305

GEORGIA

Chatham County

Curry-Miller-Byrd Cottage, 16 Izlar Ave., Tybee Island, SG100006313

Fulton County

Collier-Perry-Bentley House, 1649 Lady Marian Ln., Atlanta, SG100006307

Hotel Clermont, 789 Ponce de Leon Ave. NE, Atlanta, SG100006310

MASSACHUSETTS

Barnstable County

Aptucxet Trading Post Museum Historic District, 6 Aptucxet Rd., Bourne, SG100006301

MONTANA

Fergus County

Symmes Park Missile, Symmes Park, NE Main St., Lewistown, SG100006312

Yellowstone County

McKinley Elementary School, 820 North 31st St., Billings, SG100006311

NEW YORK

Dutchess County

Wethersfield, 257 Pugsley Hill Rd., Amenia, SG100006303

Suffolk County

Bumpstead, John, House (Boundary Decrease), (Huntington Town MRA), 473 Woodbury Rd., Cold Spring Harbor, BC100006306

Tioga County

Nichols Park, Main St., Spencer, SG100006304

OHIO

Muskingum County

Muskingum College Campus Historic District (Boundary Increase), Roughly bounded by Stormont St. & College, Lakeside, and Stadium Drs., New Concord, BC100006314

TEXAS

Lubbock County

Great Plains Life Insurance Company Building, 1220 Broadway, Lubbock, SG100006318

Additional documentation has been received for the following resources:

KENTUCKY

Bourbon County

Duncan Avenue Historic District (Additional Documentation), Duncan, Stoner, Vine, and Massie Sts., Paris, AD88000902

VIRGINIA

Montgomery County

North Fork Valley Rural Historic District (Additional Documentation), (Montgomery County MPS), Along the North Fork of the Roanoke R. from the Roanoke Co. line south to Lusters Gate, Blacksburg vicinity, AD90002169

Nominations submitted by Federal Preservation Officers:

The State Historic Preservation Officer reviewed the following nominations and responded to the Federal Preservation Officer within 45 days of receipt of the nominations and supports listing the properties in the National Register of Historic Places.

ARIZONA

Maricopa County

U.S. Courthouse and Federal Office Building, 230 North 1st Ave., Phoenix, SG100006317

NEW YORK

Suffolk County

Fort Terry Historic District, Plum Island, Southold vicinity, SG100006315

Authority: Section 60.13 of 36 CFR part 60

Dated: February 17, 2021.
Paul Lusignan,
Historian, Acting Chief, National Register of Historic Places/National Historic Landmarks Program.

[FR Doc. 2021-03505 Filed 2-19-21; 8:45 am]

BILLING CODE 4312-52-P